DEPARTMENT OF THE INTERIOR

Bureau of Land Management

[F-14950-A; F-14950-A2; AK-965-1410-KC-P]

Alaska Native Claims Selection

AGENCY: Bureau of Land Management, Interior.

ACTION: Notice of decision approving lands for conveyance.

SUMMARY: As required by 43 CFR 2650.7(d), notice is hereby given that an appealable decision approving the surface estate of certain lands for conveyance pursuant to the Alaska Native Claims Settlement Act will be issued to Qinarmiut Corporation.

The lands are in the vicinity of Tuntutuliak, Alaska, and are located in:

Seward Meridian, Alaska

T. 1 N., R. 76 W.,

Secs. 5 and 6.

Containing approximately 1,106 acres.

T. 2 N., R. 76 W.,

Sec. 31.

Containing approximately 234 acres.

T. 3 N., R. 76 W.,

Sec. 6.

Containing approximately 556 acres.

T. 4 N., R. 76 W.,

Secs. 7 to 22, inclusive;

Secs. 27 and 29;

Secs. 30 and 31.

Containing approximately 10,822 acres.

T. 5 N., R. 76 W.,

Secs. 18 and 19;

Secs. 30 and 31.

Containing approximately 2,408 acres.

T. 2 N., R. 77 W.,

Secs. 20 and 21;

Secs. 25 to 28, inclusive;

Sec. 36.

Containing approximately 3,528 acres.

T. 5 N., R. 77 W.,

Secs. 13, 24, 35, and 36.

Containing approximately 2,390 acres.

T. 2 N., R. 78 W.,

Secs. 9 and 10;

Secs. 14, 15, and 16;

Sec. 18;

Secs. 23 and 26.

Containing approximately 4,660 acres.

T. 3 N., R. 78 W.,

Secs. 21, 27, and 28.

Containing approximately 1,858 acres.

T. 2 N., R. 79 W.,

Secs. 2 and 3;

Secs. 13, 14, and 15;

Secs. 22 and 23.

Containing approximately 4,182 acres.

Aggregating approximately 31,744 acres.

The subsurface estate in these lands will be conveyed to Calista Corporation when the surface estate is conveyed to Qinarmiut Corporation. Notice of the decision will also be published four times in the Tundra Drums.

DATES: The time limits for filing an appeal are:

1. Any party claiming a property interest which is adversely affected by the decision shall have until September 18, 2009 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Charmain McMillan,
Land Law Examiner, Land Transfer Adjudication II.

[FR Doc. E9-19812 Filed 8-18-09; 8:45 am]

BILLING CODE 4310-JA-P